DEPARTMENT OF HEALTH AND HUMAN SERVICES

Food and Drug Administration

21 CFR Part 161

[Docket No. FDA-2015-N-0011]

Canned Pacific Salmon; Technical Amendment

AGENCY: Food and Drug Administration, HHS.

ACTION: Final rule; technical amendment.

SUMMARY: The Food and Drug Administration (FDA or we) is amending a regulation pertaining to canned Pacific salmon. The amendment removes a paragraph that contains an obsolete cross-reference.

DATES: This rule is effective July 15, 2015.

FOR FURTHER INFORMATION CONTACT: Loretta Carey, Center for Food Safety and Applied Nutrition (HFS-820), Food and Drug Administration, 5100 Paint Branch Pkwy., College Park, MD 20740-3835, 240-402-2371.

SUPPLEMENTARY INFORMATION: Our regulations at 21 CFR part 161 (“Fish and Shellfish”) establish requirements for specific standardized fish and shellfish. One provision, at § 161.170, pertains to canned Pacific salmon, and § 161.170(a)(5)(ii)(b) states that when the form of the pack and the words describing the pack are declared on the label, the label must “bear the statements required by § 105.69 of this chapter.” (The regulation, at § 161.170(a)(3), describes various “forms of pack;” one form of pack, for example, is named “regular” and is described as where the sections or steaks are cut transversely from the fish and filled vertically into the can.)

Section 105.69 was entitled “Foods used to regulate sodium intake.” In the Federal Register of June 3, 1996 (61 FR 27771), we revoked § 105.69 as part of a “Reinventing Government” initiative, and the revocation became effective on July 3, 1996 (see 61 FR 43963; August 27, 1996) (confirming the effective date for the revocation of various food regulations)). However, the revocation inadvertently omitted a corresponding change to § 161.170(a)(5)(ii)(b).

Consequently, through this document, we are amending § 161.170 by removing paragraph (a)(5)(ii)(b) entirely and redesignating paragraph (a)(5)(ii)(a) as paragraph (a)(5)(ii).

Publication of this document constitutes final action of these changes under the Administrative Procedure Act (5 U.S.C. 553). These amendments eliminate an obsolete reference to a rule that we revoked in 1996. FDA, therefore, for good cause, finds under 5 U.S.C. 553(b)(3)(B) and (d)(3) that notice and public comment are unnecessary.

FDA has determined, under 21 CFR 25.30(i), that this final rule is of a type that does not individually or cumulatively have a significant effect on the human environment. Therefore, neither an environmental assessment nor an environmental impact statement is required.

In addition, FDA has determined that this final rule contains no new collections of information. Therefore, clearance by the Office of Management and Budget under the Paperwork Reduction Act of 1995 is not required.

List of Subjects in 21 CFR Part 161

Food grades and standards, Frozen foods, Seafood.

Therefore, under the Federal Food, Drug, and Cosmetic Act and under authority delegated to the Commissioner of Food and Drugs, 21 CFR part 161 is amended as follows:

PART 161—FISH AND SHELLFISH

1. The authority citation for 21 CFR part 161 continues to read as follows:

Authority: 21 U.S.C. 321, 341, 343, 348, 371, 379e.

§ 161.170 [Amended]

2. Amend § 161.170 by removing paragraph (a)(5)(ii)(b) and redesignating paragraph (a)(5)(ii)(a) as paragraph (a)(5)(ii).

Dated: July 9, 2015.
Leslie Kux,
Associate Commissioner for Policy.

[FR Doc. 2015-17249 Filed 7-14-15; 8:45 am]

BILLING CODE 4164-01-P